SURFACE TRANSPORTATION BOARD

[Docket No. FD 36300]

Leavenworth, Lawrence and Galveston Railroad d/b/a Baldwin City & Southern Railroad Company—Operation Exemption—Midland Railway Company

Leavenworth, Lawrence and Galveston Railroad d/b/a Baldwin City & Southern Railroad Company (Leavenworth), a noncarrier, has filed a verified notice of exemption under 49 CFR 1150.31 to operate approximately 11.09 miles of rail line (the Line) owned by its noncarrier corporate parent, Midland Railway Company (Midland). The Line extends between milepost 14.95 at Baldwin, Kan., and milepost 26.04 at Ottawa, Kan.

According to Leavenworth, Midland and Leavenworth have executed an agreement granting Leavenworth freight operating rights on the Line. Leavenworth states that it plans to provide service under the trade name Baldwin City & Southern Railroad Company.

Leavenworth certifies that, as a result of the proposed transaction, its projected revenue will not exceed $5 million annually and will not result in its becoming a Class I or Class II carrier. Leavenworth states that the operating agreement does not contain interchange commitments.

The proposed transaction may be consummated on or after September 4, 2019, the effective date of the exemption (30 days after the verified notice was filed).¹

¹ Leavenworth initially submitted its notice of exemption on May 3, 2019. However, by decision served May 31, 2019, this proceeding was held in abeyance pending Leavenworth's filing of supplemental information, which it filed on June 19, 2019. Leavenworth submitted additional supplements to correct a verification page on July 17 and August 5, 2019. As a result, August 5 is deemed the filing date of the verified notice.

If the verified notice contains false or misleading information, the exemption is void ab initio. Petitions to revoke the exemption under 49 U.S.C. 10502(d) may be filed at any time. The filing of a petition to revoke will not automatically stay the effectiveness of the exemption. Petitions for stay must be filed no later than August 28, 2019 (at least seven days before the exemption becomes effective).

All pleadings, referring to Docket No. FD 36300, must be filed with the Surface Transportation Board either via e-filing or in writing addressed to 395 E Street SW, Washington, DC 20423-0001. In addition, a copy of each pleading must be served on Leavenworth's representative, A.J. Stevens, Baldwin City & Southern Railroad, 719 High Street, P.O. Box 5, Baldwin City, KS 66006.

According to Leavenworth, this action is exempt from environmental review under 49 CFR 1105.6(c) and from historic reporting requirements under 49 CFR 1105.8(b).

Board decisions and notices are available at www.stb.gov.

Decided: August 16, 2019.
By the Board, Allison C. Davis, Director, Office of Proceedings.
Regena Smith-Bernard,
Clearance Clerk.

[FR Doc. 2019-18021 Filed 8-20-19; 8:45 am]

BILLING CODE 4915-01-P